DEPARTMENT OF HOUSING AND URBAN DEVELOPMENT

[Docket Number FR-5600-FA-14]

Announcement of Funding Awards for the Section 4 Capacity Building for Community Development and Affordable Housing Program Fiscal Year 2012

AGENCY: Office of the Assistant Secretary for Community Planning and Development, HUD.

ACTION: Announcement of funding awards.

SUMMARY: In accordance with section 102(a)(4)(C) of the Department of Housing and Urban Development Reform Act of 1989, this announcement notifies the public of funding decisions made by the Department in a competition for funding under the 2012 Notice of Funding Availability (NOFA) for the Section 4 Capacity Building for Community Development and Affordable Housing grants program. This announcement contains the names of the award recipients and the amounts of the awards made available by HUD.

FOR FURTHER INFORMATION CONTACT: Frances Bush, Deputy Assistant Secretary for Operations, Office of Community Planning and Development, Department of Housing and Urban Development, 451 Seventh Street SW., Room 7128, Washington, DC 20410, telephone number 202-708-1934. To provide service for persons who are hearing-or-speech-impaired, this number may be reached via TTY by dialing the Federal Relay Service on 800-877-TTY, 800-877-8339, or 202-402-7515. Telephone number, other than “800” TTY numbers are not toll free.

SUPPLEMENTARY INFORMATION: HUD's Capacity Building for Community Development and Affordable Housing program is authorized by Section 4 of the HUD Demonstration Act of 1993 (Pub. L. 103-120, 107 Stat. 1148, 42 U.S.C. 9816 note), as amended, and the Consolidated and Continuing Appropriations Act of 2012 (Pub. L. 112-55). The Section 4 Capacity Building program provides grants to national community development intermediaries to enhance the capacity and ability of community development corporations and community housing development organizations to carry out community development and affordable housing activities that benefit low-income families and persons. Capacity Building funds support activities such as training, education, support, loans, grants, and development assistance. The Fiscal Year 2012 competition was announced on http://www.hud.gov on April 12, 2012. The NOFA provided $35 million for Section 4 Capacity Building grants for the Fiscal Year 2012 competition, HUD awarded three competitive Section 4 Capacity Building grants totaling $ 35,000,000.

In accordance with section 102(a)(4)(C) of the Department of Housing and Urban Development Reform Act of 1989 (103 Stat. 1987, 42 U.S.C. 3545), the Department is publishing the grantees and the amounts of the awards in Appendix A to this document.

Dated: February 26, 2013.
Frances Bush,
Deputy Assistant Secretary for Operations, Office of Community Planning and Development.

Appendix A

Fiscal Year 2012 Funding Awards for Section 4 Capacity Building for Community Development and Affordable Housing Program Grants
No. | State | Award recipient | Award
1 | MD | Enterprise Community Partners, Inc | $15,649,313
2 | NY | Local Initiatives Support Corporation | 15,204,729
3 | GA | Habitat for Humanity International | 4,145,958
Total |  |  | 35,000,000

[FR Doc. 2013-04910 Filed 3-1-13; 8:45 am]

BILLING CODE 4210-67-P